DEPARTMENT OF ENERGY

Federal Energy Regulatory Commission

Combined Notice of Filings

Take notice that the Commission has received the following Natural Gas Pipeline Rate and Refund Report filings:

Docket Number: PR20-38-000.

Applicants: Enable Oklahoma Intrastate Transmission, LLC.

Description: Tariff filing per 284.123(b),(e)+(g): Enable Revised Fuel Percentages April 1, 2020 through March 31, 2021 to be effective 4/1/2020.

Filed Date: 2/28/2020.

Accession Number: 202002285255.

Comments Due: 5 p.m. ET 3/20/2020

284.123(g) Protests Due: 5 p.m. ET 4/28/2020.

Docket Number: PR20-39-000.

Applicants: Louisville Gas and Electric Company.

Description: Tariff filing per 284.123(b),(e)/: Revised SOC DDC LGDS eff 2-1-20 to be effective 2/1/2020.

Filed Date: 3/2/2020.

Accession Number: 202003025064.

Comments/Protests Due: 5 p.m. ET 3/23/2020.

Docket Number: PR20-40-000.

Applicants: Bay Gas Storage Company, LLC.

Description: Tariff filing per 284.123(b),(e)/: Bay Gas Storage Co. Ltd. 2020 Annual Adjustment to Company Use Percentage to be effective 3/1/2020.

Filed Date: 3/3/2020.

Accession Number: 202003035206.

Comments/Protests Due: 5 p.m. ET 3/24/2020.

Docket Number: PR20-41-000.

Applicants: Third Coast Alabama, LLC.

Description: Tariff filing per 284.123(b)(2),(: Third Coast Alabama, LLC Baseline SOC Filing to be effective 3/4/2020.

Filed Date: 3/4/2020.

Accession Number: 202003045248.

Comments/Protests Due: 5 p.m. ET 3/25/2020.

Docket Number: PR20-42-000.

Applicants: Third Coast Mississippi, LLC.

Description: Tariff filing per 284.123(b)(2),(: Third Coast Mississippi SOC Baseline Filing to be effective 3/4/2020.

Filed Date: 3/4/2020.

Accession Number: 202003045249.

Comments/Protests Due: 5 p.m. ET 3/25/2020.

Docket Numbers: RP20-646-000.

Applicants: MarkWest Pioneer, L.L.C.

Description: § 4(d) Rate Filing: Nonconforming Negotiated Rate Service Agreement and Housekeeping Revisions to be effective 4/1/2020.

Filed Date: 3/5/20.

Accession Number: 20200305-5059.

Comments Due: 5 p.m. ET 3/17/20.

Docket Numbers: RP20-647-000.

Applicants: Enable Mississippi River Transmission, LLC.

Description: § 4(d) Rate Filing: Negotiated Rate Filing—City of Red Bud RP18-923 & RP20-131 Settlement to be effective 1/1/2019.

Filed Date: 3/5/20.

Accession Number: 20200305-5113.

Comments Due: 5 p.m. ET 3/17/20.

Docket Numbers: RP20-648-000.

Applicants: Enable Mississippi River Transmission, LLC.

Description: § 4(d) Rate Filing: Negotiated Rate Filing—City of Waterloo RP18-923 & RP20-131 Settlement to be effective 1/1/2019.

Filed Date: 3/5/20.

Accession Number: 20200305-5116.

Comments Due: 5 p.m. ET 3/17/20.

Docket Numbers: RP20-649-000.

Applicants: Trailblazer Pipeline Company LLC.

Description: § 4(d) Rate Filing: TPC Fuel Tracker 2020 to be effective 5/1/2020.

Filed Date: 3/5/20.

Accession Number: 20200305-5114.

Comments Due: 5 p.m. ET 3/17/20.

Docket Numbers: RP20-531-001.

Applicants: Northwest Pipeline LLC.

Description: Tariff Amendment: Renewable Natural Gas Filing—Amended to be effective 3/20/2020.

Filed Date: 3/6/20

Accession Number: 20200306-5071.

Comments Due: 5 p.m. ET 3/13/20.

Docket Numbers: RP20-615-001.

Applicants: Columbia Gas Transmission, LLC.

Description: Tariff Amendment: RAM 2020 Amendment to be effective 4/1/2020.

Filed Date: 3/6/20.

Accession Number: 20200306-5035.

Comments Due: 5 p.m. ET 3/18/20.

Docket Numbers: RP20-616-001.

Applicants: Central Kentucky Transmission Company.

Description: Tariff Amendment: RAM 2020 Amendment to be effective 4/1/2020.

Filed Date: 3/6/20.

Accession Number: 20200306-5037.

Comments Due: 5 p.m. ET 3/18/20.

Docket Numbers: RP20-635-001.

Applicants: KO Transmission Company.

Description: Tariff Amendment: Amendment to Annual Retainage Mechanism Filing to be effective 4/1/2020.

Filed Date: 3/6/20.

Accession Number: 20200306-5123.

Comments Due: 5 p.m. ET 3/18/20.

Docket Numbers: RP20-650-000.

Applicants: RH Energytrans, LLC.

Description: Request for Waiver of Requirement to File FL&U Percentage Adjustment for First Partial Year of Operations of RH energytrans, LLC under RP20-650.

Filed Date: 3/6/20.

Accession Number: 20200306-5083.

Comments Due: 5 p.m. ET 3/18/20.

Docket Numbers: RP20-651-000.

Applicants: Stagecoach Pipeline & Storage Company LLC.

Description: § 4(d) Rate Filing: Stagecoach Pipeline & Storage Company LLC—Filing of Negotiated Rate Agreement to be effective 4/1/2020.

Filed Date: 3/6/20.

Accession Number: 20200306-5110.

Comments Due: 5 p.m. ET 3/18/20.

Docket Numbers: RP20-652-000.

Applicants: El Paso Natural Gas Company, L.L.C.

Description: § 4(d) Rate Filing: Non-Conforming Agreement Filing (XTO) to be effective 3/29/2020.

Filed Date: 3/6/20.

Accession Number: 20200306-5117.

Comments Due: 5 p.m. ET 3/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2020.
Nathaniel J. Davis, Sr.,
Deputy Secretary.

[FR Doc. 2020-05207 Filed 3-12-20; 8:45 am]

BILLING CODE 6717-01-P